DEPARTMENT OF ENERGY

Federal Energy Regulatory Commission

[Docket No. CP04-411-000]

Crown Landing, LLC; Notice of Technical Conference

December 22, 2004.

On Wednesday, January 12, 2005, at 8:30 a.m. (EDT), staff from the Commission's Office of Energy Projects will convene a cryogenic design and technical conference regarding the proposed Crown Landing LNG import terminal. The cryogenic conference will be held at the Holiday Inn Hotel located at One Pureland Drive, Swedesboro, New Jersey (I-295 exit 10). For hotel details call 856-467-3322.

In view of the critical energy infrastructure information and security issues to be explored, the cryogenic conference will not be open to the public. Attendance at this conference will be limited to existing parties to the proceeding (anyone who has specifically requested to intervene as a party) and to representatives of interested federal, state, and local agencies. Any person planning to attend this January 12th cryogenic conference must register by close of business on Monday, January 10, 2005. Registrations may be submitted either online at http://www.ferc.gov/whats-new/registration/cryo-conf-form.asp or by faxing a copy of the form (found at the referenced online link) to 202-208-0353. All attendees must sign a non-disclosure statement prior to entering the conference. Upon arrival at the hotel, check the reader board in the hotel lobby for venue. For additional information regarding the cryogenic conference, please contact Phil Suter at phillip.suter@ferc.gov or 202-502-6368.

Magalie R. Salas,
Secretary.

[FR Doc. E4-3905 Filed 12-29-04; 8:45 am]

BILLING CODE 6717-01-P